DEPARTMENT OF COMMERCE

Office of the Secretary

Strengthening America's Communities Advisory Committee

AGENCY: Office of the Secretary, Department of Commerce.

ACTION: Notice of open meeting.

SUMMARY: The Strengthening America's Communities Advisory Committee (the “Committee”) will hold its first meeting on April 15, 2005 in Fresno, California. At this meeting, the Committee will discuss topics relating to the successful implementation of the President's Strengthening America's Communities Initiative (the “Initiative”). The objectives and duties of the Committee are to provide advice and recommendations to the Secretary of Commerce (the “Secretary”), and to develop a comprehensive written report of policy parameters to assist in implementing the Initiative, including advising on its legislation, regulations and other guidance.

DATES: Friday, April 15, 2005; beginning at approximately 9 a.m. (p.s.t.) and ending at approximately 4 p.m. (p.s.t.).

ADDRESSES: The meeting will take place at Fresno City Hall, City Council Chamber Room, 2600 Fresno Street, Fresno, California 93721-3600. Requests for sign language interpretation and other auxiliary aids must be transmitted by facsimile or e-mail to the contact person listed below no later than April 5, 2005.

FOR FURTHER INFORMATION CONTACT: Mr. Jedd Vertman, Attorney Advisor, Economic Development Administration, Department of Commerce, Room 7005, 1401 Constitution Avenue, NW., Washington, DC 20230, telephone (202) 482-4687, facsimile (202) 482-5671, e-mail: jvertman@eda.doc.gov. Please note that any correspondence sent by regular mail may be substantially delayed or suspended in delivery, since all regular mail sent to the Department is subject to extensive security screening. For information about the Initiative, please visit the Department of Commerce's (the “Department's”) Web site at http://www.commerce.gov/SACI/index.htm.

SUPPLEMENTARY INFORMATION: The meeting will be open to the public and seating will be available, but may be limited. Reservations are not accepted. The prospective agenda for the Committee meeting is as follows:

Agenda

1. Opening remarks and introductions.

2. General discussion of the Initiative and the operations of, and the issues to be addressed by, the Committee.

3. Assignments of members to subcommittees.

4. Working lunch & subcommittee break-out sessions. The lunch and subcommittee sessions will run concurrently and are expected to last approximately three hours. Subcommittee sessions are not open to the public.

5. The full Committee will convene to discuss a summary of the individual subcommittee sessions.

This agenda is subject to change and a copy of the agenda will be made available to the public the morning of the Committee meeting. Members of the public may submit written statements to the Committee by submitting them to the contact person listed above at any time before or after the Committee meeting.

Dated: March 28, 2005.
David A. Sampson,
Assistant Secretary for Economic Development, Economic Development Administration.

[FR Doc. 05-6395 Filed 3-30-05; 8:45 am]

BILLING CODE 3510-24-P